DEPARTMENT OF THE TREASURY

Submission for OMB Review; Comment Request

November 17, 2016.

The Department of the Treasury will submit the following information collection requests to the Office of Management and Budget (OMB) for review and clearance in accordance with the Paperwork Reduction Act of 1995, Public Law 104-13, on or after the date of publication of this notice.

DATES: Comments should be received on or before December 22, 2016 to be assured of consideration.

ADDRESSES: Send comments regarding the burden estimates, or any other aspect of the information collections, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8142, Washington, DC 20220, or email at PRA@treasury.gov.

FOR FURTHER INFORMATION CONTACT: Copies of the submissions may be obtained by emailing PRA@treasury.gov, calling (202) 622-0934, or viewing the entire information collection request at www.reginfo.gov.

Internal Revenue Service (IRS)

OMB Control Number: 1545-0731.

Type of Review: Extension without change of a currently approved collection.

Title: Definition of an S Corporation.

Abstract: The regulations provide the procedures and the statements to be filed by certain individuals for making the election under section 1361(d)(2). The statements required to be filed would be used to verify that taxpayers are complying with requirements imposed by Congress under subchapter S.

Affected Public: Businesses or other for-profits.

Estimated Total Annual Burden Hours: 1,005.

OMB Control Number: 1545-0763.

Type of Review: Extension without change of a currently approved collection.

Title: Qualified Conservation Contributions.

Abstract: The information is necessary to comply with various substantive requirements of section 170(h), which describes situations in which a taxpayer is entitled to an income tax deduction for a charitable contribution for conservation purposes of a partial interest in real property.

Affected Public: Businesses or other for-profits.

Estimated Total Annual Burden Hours: 1,250.

OMB Control Number: 1545-0782.

Type of Review: Extension without change of a currently approved collection.

Title: Limitation on reduction in income tax liability incurred to the Virgin Islands.

Abstract: The Tax Reform Act of 1986 repealed the mandatory reporting and recordkeeping requirements of section 934(d)(1954 Code). The prior exception to the general rule of section 934 (1954 Code) to prevent the Government of the U.S. Virgin Islands from granting tax rebates with regard to taxes attributable to income derived from sources within the U.S. was contingent upon the taxpayer's compliance with the reporting requirements of section 934(d).

Affected Public: Individuals or Households.

Estimated Total Annual Burden Hours: 185.

OMB Control Number: 1545-0959.

Type of Review: Extension without change of a currently approved collection.

Title: Qualified Disclaimers of Property.

Abstract: 26 U.S.C. Section 2518 allows a person to disclaim an interest in property received by gift or inheritance. The interest is treated as if the dis-claimant never received or transferred such interest for Federal gift tax purposes. A qualified disclaimer must be in writing and delivered to the transferor or trustee.

Affected Public: Individuals or Households.

Estimated Total Annual Burden Hours: 1,000.

OMB Control Number: 1545-0990.

Type of Review: Extension without change of a currently approved collection.

Title: Form 8610, Annual Low-Income Housing Credit Agencies Report, and Schedule A (Form 8610), Carryover Allocation of Low-Income Housing Credit.

Form: 8610, SCH A (Form 8610).

Abstract: State housing credit agencies (Agencies) are required by Code section 42(l)(3) to report annually the amount of low-income housing credits that they allocated to qualified buildings during the year. Agencies report the amount allocated to the building owners and to the IRS in Part I of Form 8609. Carryover allocations are reported to the Agencies in carryover allocation documents. The Agencies report the carryover allocations to the IRS on Schedule A (Form 8610). Form 8610 is a transmittal and reconciliation document for Forms 8609, Schedule A (Form 8610), binding agreements, and election statements.

Affected Public: State, Local, and Tribal Governments.

Estimated Total Annual Burden Hours: 6,738.

OMB Control Number: 1545-1219.

Type of Review: Extension without change of a currently approved collection.

Title: Arbitrage Rebate, Yield Restrictions and Penalty in Lieu of Arbitrage Rebate.

Abstract: Form 8038-T is used by issuers of tax exempt bonds to report and pay the arbitrage rebate and to elect and/or pay various penalties associated with arbitrage bonds. These issuers include state and local governments.

Forms: 8038-T.

Affected Public: State, Local, and Tribal Governments.

Estimated Total Annual Burden Hours: 57,900.

OMB Control Number: 1545-1361.

Type of Review: Extension without change of a currently approved collection.

Title: 26 CFR part 52, Environmental Taxes.

Abstract: Section 4681 imposes a tax on ozone-depleting chemicals sold or used by a manufacturer or importer thereof. Section 4681 also imposes a tax on ozone-depleting chemicals sold or used by a manufacturer or importer thereof and imported taxable products sold or used by an importer thereof. A floor stocks tax is also imposed. Section 4682 provides exemptions and reduced rates of tax for certain uses of ozone-depleting chemicals. These regulations provide reporting and recordkeeping rules and have been codified under 26 CFR part 52.

Affected Public: Businesses or other for-profits.

Estimated Total Annual Burden Hours: 75,265.

OMB Control Number: 1545-2036.

Type of Review: Extension without change of a currently approved collection.

Title: Taxation and Reporting of REIT Excess Inclusion Income by REITs, RICs, and Other Pass-Through Entities (Notice 2006-97).

Abstract: The notice requires certain REITs, RICs, partnerships and other Pass-Through Entities that have excess inclusion income to disclose the amount and character of such income allocable to their record interest owners. The record interest owners need the information to properly report and pay taxes on such income.

Affected Public: Businesses or other for-profits.

Estimated Total Annual Burden Hours: 100.

OMB Control Number: 1545-2047.

Type of Review: Revision of a currently approved collection.

Title: Rescission of penalty for failure to include reportable transaction information with return.

Abstract: This revenue procedure provides guidance to persons who are assessed a penalty under section 6707A or 6707 of the Internal Revenue Code, and who may request rescission of those penalties from the Commissioner if the penalty is with respect to a reportable transaction other than a listed transaction.

Affected Public: Individuals or Households.

Estimated Total Annual Burden Hours: 3,866.

OMB Control Number: 1545-2161.

Type of Review: Extension without change of a currently approved collection.

Title: Form 8038-B—Information Return for Build America Bonds and Recovery Zone Economic Development Bonds.

Forms: 8038-B.

Abstract: Form 8038-B has been developed to assist issuers of the new types of Build America and Recovery Zone Economic Development Bonds enacted under the American Recovery and Reinvestment Act of 2009 to capture information required by IRC section 149(e).

Affected Public: State, Local, and Tribal Governments.

Estimated Total Annual Burden Hours: 113,661.

Bob Faber,
Acting Treasury PRA Clearance Officer.

[FR Doc. 2016-28092 Filed 11-21-16; 8:45 am]

BILLING CODE 4830-01-P